Title 3—

The President

Proclamation 7946 of October 14, 2005

National Character Counts Week, 2005

By the President of the United States of America

A Proclamation

During National Character Counts Week, we focus on ways to reach out to our fellow Americans, especially children. Parents are the first and best example of character in a child's life. By volunteering and performing other acts of service in their communities, parents can teach children about the good that comes from helping others. By extending a hand to those who suffer, parents can demonstrate kindness and compassion and help children learn the importance of serving a cause greater than themselves.

Our schools also play a vital part in providing children with the principles they need to grow and succeed. The Department of Education supports character education through its Partnerships in Character Education Program. During my Administration, over 60 State and local education agencies have received funding from the Department of Education to provide programs that teach important values to our youth.

Many citizens around the country are helping in the effort to teach character to children. One of the most important ways to contribute is to become a mentor. By showing love, support, and compassion, one person can make a difference in the life of a child.

During National Character Counts Week and throughout the year, I encourage children and all Americans to make good choices in life, set high standards, and serve as leaders. By working together, we can all contribute to a culture of good citizenship and responsibility that strengthens our Nation.

NOW, THEREFORE, I, GEORGE W. BUSH, President of the United States of America, by virtue of the authority vested in me by the Constitution and laws of the United States, do hereby proclaim October 16 through October 22, 2005, as National Character Counts Week. I call upon public officials, educators, librarians, parents, students, and all Americans to observe this week with appropriate ceremonies, activities, and programs.

IN WITNESS WHEREOF, I have hereunto set my hand this fourteenth day of October, in the year of our Lord two thousand five, and of the Independence of the United States of America the two hundred and thirtieth.

B

[FR Doc. 05-21028

Filed 8-18-05; 8:45 am]

Billing code 3195-01-P